ENVIRONMENTAL PROTECTION AGENCY

[ER-FRL-6251-1]

Environmental Impact Statements and Regulations; Availability of EPA Comments

Availability of EPA comments prepared January 24, 2000 Through January 28, 2000 pursuant to the Environmental Review Process (ERP), under Section 309 of the Clean Air Act and Section 102(2)(c) of the National Environmental Policy Act as amended. Requests for copies of EPA comments can be directed to the Office of FEDERAL ACTIVITIES AT (202) 564-7167.

An explanation of the ratings assigned to draft environmental impact statements (EISs) was published in FR dated April 09, 1999 (63 FR 17856).

DRAFT EISs

ERP No. D-FHW-F40386-OH Rating EC2, Meigs-124-21.16 Transportation Corridor, Relocating existing OH-124 and US 33, Meigs County, OH.

Summary: EPA concerns will be adequately addressed if the project's forthcoming final EIS provides additional detail on the project's purpose and need statement and the conceptual wetlands compensation plan.

ERP No. D-FHW-F40387-OH Rating EC2, Lancaster Bypass (FAI-US 22/US 33-9.59/9.95) Construction, Funding, Greenfield, Hocking, Berne and Pleasant Townships, Fairfield County, OH.

Summary: EPA expressed environmental concerns due to potential noise impacts and wetlands compensation aspects. EPA requested noise mitigation actions and a wetland compensation plan.

ERP No. D-SFW-K64017-CA Rating EC2, Trinity River Mainstream Fishery Restoration, To Restore and Maintain the Natural Production of Anadromous Fish, Trinity and Humboldt Counties, CA.

Summary: While EPA supports the preferred alternative, EPA did express concern that additional mitigation measures are needed to ensure full protection of the environment, such as creation and restoration of cold water pool refugia and other cold water habitats.

ERP No. D-USN-C11017-NY Rating EC2, Naval Weapons Industrial Reserve Plant Bethpage to Nassau County, Transfer and Reuse, Preferred Reuse Plan for the Property, Town of Oyster Bay, Nassau County, NY.

Summary: EPA expressed environmental concerns due to potential issues related to air quality, ground water, and site contamination/remediation. EPA requested that these issues be clarified in the final EIS.

Dated: February 8, 2000.
B. Katherine Biggs,
Associate Director, NEPA Compliance Division, Office of Federal Activities.

[FR Doc. 00-3199 Filed 2-10-00; 8:45 am]

BILLING CODE 6560-50-U